DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on June 6, 2013 (Federal Register/Vol. 78, No. 109/pp. 34154-34156).

DATES: Submit comments to the Office of Management and Budget (OMB) on or before April 23, 2014.

FOR FURTHER INFORMATION CONTACT: Alan Block at the National Highway Traffic Safety Administration, Office of Behavioral Safety Research (NTI-131), W46-499, Department of Transportation, 1200 New Jersey Avenue SE., Washington, DC 20590. Mr. Block's phone number is 202-366-6401 and his email address is alan.block@dot.gov.

SUPPLEMENTARY INFORMATION:

OMB Control Number: None.

Type of Request: New information collection requirement.

Title: Implementation of a Youth Traffic Safety Survey.

Form No.: NHTSA Form 1199.

Type of Review: Regular.

Respondents: NHTSA proposes to conduct a survey of young drivers ages 16 through 20 concerning traffic safety issues affecting young people in that age range. The survey would use Web as the primary response mode and mail as a second response mode. Prior to the survey, there will be usability tests of the Web and paper versions of the questionnaires to identify any problems in the interface between survey and respondent. The usability tests will be conducted with a convenience sample of young drivers having varying demographic characteristics. There also will be a pilot test of the survey. The pilot test will be conducted with a sample of young drivers ages 16 through 20 drawn from the driver license database of one State that has agreed to participate in the survey. Full administration of the survey will be conducted with samples of young drivers ages 16 through 20 drawn from the driver license databases of eight States that have agreed to participate in the survey.

Estimated Number of Respondents: There will be 27 respondents participating in the usability tests. The pilot test will use a total drawn sample of 6,300. The response rate it will achieve is unknown, but for purposes of burden estimation this project will assume a response rate upper limit of 50%. The estimated total number of respondents is therefore 3,150. For the full administration of the survey, there will be two versions of the questionnaire in order to limit the burden to respondents. Sufficient sample will be drawn to obtain 8,000 completed interviews for each of the eight participating States (4,000 per questionnaire). The estimated total number of respondents is therefore 64,000.

Estimated Time Per Response: Average duration per respondent for the usability tests will be two hours. Average duration per respondent for both the pilot test and the full administration of the survey will be 15 minutes.

Total Estimated Annual Burden Hours: The total estimated annual burden for the usability tests is 27 subjects × 2 hours = 54 hours. The total estimated annual burden for the pilot test is 6,300 sample × 50% response rate × 15 minutes = 787.5 hours. The total estimated annual burden for the full administration of the survey is 8 States × 8,000 respondents × 15 minutes = 16,000 hours. The total estimated annual burden for all three information collections combined is 16,841.5 hours.

Frequency of Collection: Respondents will participate a single time in the usability tests, pilot test, or survey. They will not participate in more than one of these forms of information collection. The usability tests, pilot test, and survey will be conducted a single time.

Abstract: Young drivers 16- to 20-years old are especially vulnerable to death and injury on our roadways, with traffic crashes being the leading cause of death for teenagers in America. It is essential that NHTSA be proactive in addressing young driver traffic safety. As a data-driven organization, this means collecting and analyzing quality data to identify the nature of young driver traffic safety problems, to guide development of intervention approaches, and to evaluate the effectiveness of interventions. To that end, NHTSA proposes to conduct a survey of young drivers ages 16 through 20 concerning traffic safety issues affecting young people in that age range. The sample would be drawn from driver license databases of States that choose to participate in the survey. NHTSA would seek participation by eight States, two per Census Region. Contact with prospective respondents would be through the mail. Young drivers would be asked to go to a designated Web site to take the survey. Follow up mailings would include as a second response option a paper version of the questionnaire that respondents could fill out and mail back. NHTSA will administer two different versions of the questionnaire, with each respondent in the participating States receiving one of the two versions. The questionnaires would cover topics such as general driving behavior, driver education and graduated driver licensing, parental oversight of driving, distraction and driving, drinking and driving, substance use and driving, drowsy driving, seat belt use, speeding and racing, crash experience, and traffic violations.

The survey will first undergo developmental work prior to full survey administration. This will include usability tests of the Web and paper questionnaires to identify any problems in the interface between survey and respondent. It will also include a pilot test in a single State. The pilot test will have methodological experiments built in to determine how different conditions will affect response rates. For example, different configurations of monetary incentives offered for survey participation will be tested to assess which produces the highest response rate.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. Section 3506(c)(2)(A).

Issued in Washington, DC on March 19, 2014.
Jeff Michael,
Associate Administrator, Research and Program Development.

[FR Doc. 2014-06335 Filed 3-21-14; 8:45 am]

BILLING CODE 4910-59-P